DEPARTMENT OF COMMERCE

International Trade Administration

[A-570-863]

Honey from the People's Republic of China: Final Results and Rescission, In Part, of Antidumping Duty New Shipper Reviews

AGENCY: Import Administration, International Trade Administration, Department of Commerce.

SUMMARY: On January 3, 2007, the U.S. Department of Commerce (the Department) published its preliminary results of the new shipper reviews of the antidumping order on honey from the People's Republic of China (PRC). See Honey from the People's Republic of China: Intent to Rescind and Preliminary Results of Antidumping Duty New Shipper Reviews, 72 FR 111 (January 3, 2007) (Preliminary Results). These reviews cover three producers/exporters, Inner Mongolia Altin Bee-Keeping Co., Ltd. (IMA), Qinhuangdao Municipal Dafeng Industrial Co., Ltd. (QMD), and Dongtai Peak Honey Industry Co., Ltd. (Dongtai Peak) (collectively, respondents). The period of review (POR) is December 1, 2004, through November 30, 2005. We invited interested parties to comment on our Preliminary Results. Based on our analysis of the comments received, we have made changes to our calculations. The final dumping margins for these reviews are listed in the “Final Results of Review” section below.

EFFECTIVE DATE: July 11, 2007.

FOR FURTHER INFORMATION CONTACT: Patrick Edwards or Judy Lao, AD/CVD Operations, Office 7, Import Administration, International Trade Administration, U.S. Department of Commerce, 14th Street and Constitution Avenue, NW., Washington, DC 20230; telephone: (202) 482-8029 or (202) 482-7924, respectively.

SUPPLEMENTARY INFORMATION:

Background

On January 3, 2007, the Department published the preliminary results of these reviews in the Federal Register. See Preliminary Results. We invited parties to comment on the Preliminary Results. On January 9, 2007, in response to a request from respondents, we extended the time limit for submitting further information to value the factors of production until February 6, 2007, and comments on these submission until February 16, 2007. The Department simultaneously extended the time limit for parties to submit case and rebuttal briefs to the Department's Preliminary Results until February 23, 2007, and March 2, 2007, respectively. On February 5, 2007, the Department denied an additional request by respondents for a further ten-day extension of the time limit for submitting information to value the factors of production due to time constraints and the Department's statutory timing requirements in this case. Also on February 5, 2007, the Department notified parties of its adoption of a new 2004 wage rate and invited comments on the issue in the context of parties' case briefs. On February 6, 2007, we received a surrogate value submission commenting on the Department's Preliminary Results from respondents.

We received case briefs from the American Honey Producers Association and the Sioux Honey Association (collectively, petitioners) and respondents on February 23, 2007, respectively.¹ On March 2, 2007, we received rebuttal briefs from petitioners and respondent Dongtai Peak, respectively. None of the parties requested a public hearing. On April 12, 2007, the Department extended the deadline for the final results to July 2, 2007. See Honey from the People's Republic of China: Notice of Extension of Time Limit for Final Results of Fourth Antidumping Duty Administrative Review and the Eighth New Shipper Review, 72 FR 18461 (April 12, 2007).

¹ On February 22, 2007, we received a courtesy copy case brief from respondents which we subsequently rejected as containing new information. On February 23, 2007, respondents re-filed their brief, per the Department's instructions, without the new information.

Scope of the Antidumping Duty Order

The products covered by this order are natural honey, artificial honey containing more than 50 percent natural honey by weight, preparations of natural honey containing more than 50 percent natural honey by weight, and flavored honey. The subject merchandise includes all grades and colors of honey whether in liquid, creamed, comb, cut comb, or chunk form, and whether packaged for retail or in bulk form.

The merchandise subject to this order is currently classifiable under subheadings 0409.00.00, 1702.90.90, and 2106.90.99 of the Harmonized Tariff Schedule of the United States (HTSUS). Although the HTSUS subheadings are provided for convenience and customs purposes, the Department's written description of the merchandise under order is dispositive.

Analysis of Comments Received

All issues raised in the briefs are addressed in the “Memorandum to the Assistant Secretary: Issues and Decision Memorandum for the Final Results of the Eighth New Shipper Review of Honey from the People's Republic of China,” dated July 2, 2007 (Issues & Decision Memorandum), which is hereby adopted by this notice. A list of the issues raised, all of which are in the Issues and Decision Memorandum, is attached to this notice as Appendix I. Parties can find a complete discussion of all issues raised in the briefs and the corresponding recommendations in this public memorandum which is on file in the Central Records Unit (CRU), room B-099 of the Department of Commerce building. In addition, a complete version of the Issues and Decision Memorandum can be accessed directly on the Web at http://www.trade.gov/ia/. The paper copy and electronic version of the Issues and Decision Memorandum are identical in content.

Separate Rates

IMA and Dongtai Peak have requested separate, company-specific antidumping duty rates. In our preliminary results, we found that IMA and Dongtai Peak had met the criteria for the application of a separate antidumping duty rate. See Preliminary Results, 72 FR at 114. We have not received any information since the Preliminary Results which would warrant reconsideration of our separate-rates determinations with respect to IMA and Dongtai Peak. Therefore, for these final results, we will continue to calculate company-specific separate rates for these respondents.

Partial Rescission of New Shipper Review

In our preliminary results, the Department stated its intention to rescind the new shipper review for QMD, as the Department found QMD's subject new shipper sale to be atypical of its normal business practice and, also, that the average-unit value of the company's sales was aberrational, i.e., non-bona fide. See Preliminary Results, 72 FR at 113; see also, “Memorandum to Richard Weible: Eighth Antidumping New Shipper Review of the Antidumping Duty Order on Honey from the People's Republic of China: Bona Fide Analysis of Qinhuangdao Municipal Dafeng Industrial, Co., Ltd.,” dated December 21, 2006. Interested parties filed comments on the intended rescission of the new shipper review of QMD in their case and rebuttal briefs.

As discussed in the Issues & Decision Memorandum at Comment 4, because the Department finds QMD's single POR sale to be non-bona fide, QMD does not qualify for new shipper status and its sales are not subject to review. Therefore, the Department is rescinding this review with regard to QMD, because QMD had no reviewable sales during the POR. See 19 CFR 351.213(d)(3); see also, Tianjin Tiancheng Pharmaceutical Co., Ltd. v. United States, 366 F. Supp. 2d 1246, 1249 (CIT 2005) (CIT affirmed that Commerce may exclude sales from the export price calculation where it finds the sales are not bona fide). In the case of new shipper reviews, exclusion of the single new shipper sale as being non-bona fide must necessarily end the review. Id.

Changes Since the Preliminary Results

Based on the comments received from the interested parties, we have made changes to the margin calculations for IMA and Dongtai Peak. For the final results, we have updated the surrogate values for paint, cartons, brokerage and handling, and financial ratios. We also used the revised NME wage rate, as posted on the Department's website on February 2, 2007. For a discussion of these changes, see the Issues and Decision Memorandum at Comment 2. For a discussion of the changes to the margin calculations for IMA and Dongtai Peak, please see “Memorandum to the File: Eighth Antidumping Duty New Shipper Review of the Antidumping Duty Order on Honey from the People's Republic of China for Inner Mongolia Altin Bee-Keeping Co., Ltd. (IMA),” dated July 2, 2007 (IMA Analysis Memo); see also, “Memorandum to the File: Eighth Antidumping Duty New Shipper Review of the Antidumping Duty Order on Honey from the People's Republic of China for Dongtai Peak Honey Industry Co., Ltd. (Dongtai Peak),” dated July 2, 2007 (Dongtai Peak Analysis Memo). A public version of these memoranda are on file in the CRU.

Final Results of Review

We determine that the following antidumping duty margins exists:

Manufacturer/Exporter | Weighted-Average Margin (Percent)
Inner Mongolia Altin Bee-Keeping Co., Ltd. | 130.11
Dongtai Peak Honey Industry Co., Ltd. | 28.75

Assessment Rates

Pursuant to 19 CFR 351.212(b), the Department will determine, and U.S. Customs and Border Protection (CBP) shall assess, antidumping duties on all appropriate entries. The Department intends to issue assessment instructions to CBP 15 days after the date of publication of these final results of review. For assessment purposes, where possible, we calculated importer-specific assessment rates for honey from the PRC on a per-unit basis. Specifically, we divided the total dumping margins (calculated as the difference between normal value and export price or constructed export price) for each importer by the total quantity of subject merchandise sold to that importer during the POR to calculate a per-unit assessment amount. We will direct CBP to levy importer-specific assessment rates based on the resulting per-unit (i.e., per-kilogram) rates by the weight in kilograms of each entry of the subject merchandise during the POR.

Cash Deposits

The following cash-deposit requirement will be effective upon publication of these final results for shipments of the subject merchandise entered, or withdrawn from warehouse, for consumption on or after the publication date of the final results, as provided by section 751(a)(2)(C) of the Tariff Act of 1930, as amended (the Act). For subject merchandise produced and exported by IMA and Dongtai Peak, we will establish a per-kilogram cash deposit rate that is equivalent to the company-specific cash deposit established in this review (noted above). These deposit requirements shall remain in effect until further notice.

Notification to Interested Parties

This notice also serves as the final reminder to importers of their responsibility under 19 CFR 351.402(f) to file a certificate regarding the reimbursement of antidumping duties prior to liquidation of the relevant entries during this review period. Failure to comply with this requirement could result in the Secretary's presumption that reimbursement of antidumping duties occurred and in the subsequent assessment of double antidumping duties.

This notice also serves as the only reminder to parties subject to administrative protective order (APO) of their responsibility concerning the return/destruction or conversion to judicial protective order of proprietary information disclosed under APO in accordance with 19 CFR 351.305(a)(3). Failure to comply is a violation of the APO.

These new shipper reviews and this notice are published in accordance with sections 751(a)(2)(B) and 777(i)(1) of the Act.

Dated: July 2, 2007.
David M. Spooner,
Assistant Secretary for Import Administration.

Appendix

I. General Issues

Comment 1: Raw Honey Surrogate Value Methodology

II. Company-Specific Issues

A. Inner Mongolia Altin Bee-Keeping Co., Ltd.

Comment 2: Rejection of Beekeeping Factors of Production

B. Qinhuangdao Municipal Dafeng Industrial Co., Ltd.

Comment 3: Whether the NSR for QMD Should Be Rescinded

C. Dongtai Peak Honey Industry Co., Ltd.

Comment 4: Whether the NSR for Dongtai Peak Should Be Rescinded

Comment 5: Surrogate Value for Cartons

[FR Doc. E7-13385 Filed 7-10-07; 8:45 am]

BILLING CODE 3510-DS-P